FEDERAL COMMUNICATIONS COMMISSION

[DA 10-2318]

Emergency Access Advisory Committee; Announcement of Establishment, and of Members and Co-Chairpersons, and Announcement of Date of First Meeting

AGENCY: Federal Communications Commission.

ACTION: Notice.

SUMMARY: This document announces the establishment, and appointment of members and Co-Chairpersons, of the Emergency Access Advisory Committee (“Committee” or “EAAC”) of the Federal Communications Commission (“Commission”). The Commission further announces the date of the Committee's first meeting.

DATES: The Committee was established on December 7, 2010. The first meeting of the Committee will take place on Friday, January 14, 2011, 9:30 a.m. to 4:30 p.m., at Commission Headquarters.

ADDRESSES: Federal Communications Commission, 445 12th Street, SW., Washington, DC 20554.

FOR FURTHER INFORMATION CONTACT: Cheryl King, Consumer and Governmental Affairs Bureau, 202-418-2284 (voice), 202-418-0416 (TTY), or Cheryl.King@fcc.gov (e-mail); or Patrick Donovan, Public Safety and Homeland Security Bureau, 202-418-2413, Patrick.Donovan@fcc.gov (e-mail).

SUPPLEMENTARY INFORMATION: On December 7, 2010, in document DA 10-2318, Chairman Julius Genachowski announced the establishment, and appointment of members and Co-Chairpersons, of the EAAC, following a nominations period that closed on November 1, 2010.

The EAAC shall conduct monthly meetings during 2011. The first meeting will be held on January 14, 2011 at Commission Headquarters, and subsequent meetings will be held on the second Friday of every month during 2011. All meetings shall be open to the public.

The EAAC is established in accordance with the Twenty-first Century Communications and Video Accessibility Act of 2010, Public Law 111-260 (Accessibility Act), for the purpose of determining the most effective and efficient technologies and methods by which to enable access to Next Generation 911 emergency services by individuals with disabilities. In order to fulfill this mission, the Accessibility Act directs that within one year after the EAAC's members are appointed, the Committee shall conduct a national survey, with the input of groups represented by the Committee's membership, after which the Committee shall develop and submit to the Commission recommendations to implement such technologies and methods.

The Chairman of the Commission is appointing thirty-two (32) members of the EAAC. Of this number, eleven (11) represent interests of persons with disabilities and researchers; seven (7) represent interests of communication service providers; six (6) represent interests of State and local emergency responders and emergency subject matter technologies; three (3) represent venders, developers and manufacturers of systems, facilities and equipment; three (3) represent Federal agencies; and two (2) represent industry organizations. The EAAC's membership is designed to be representative of the Commission's many constituencies, and the diversity achieved ensures a balance among individuals with disabilities and other stakeholders, as required by the Accessibility Act. All appointments are effective immediately and shall terminate December 7, 2012, or when the Committee is terminated, whichever is earlier.

The membership of the EAAC, designated by organization or affiliation as appropriate, is as follows:

• American Foundation for the Blind—Brad Hodges.

• AT&T—Brian Daly.

• Avaya Labs—Paul Michaelis.

• Center for Public Safety Innovation/National Terrorist Preparedness Institute—Christopher Littlewood.

• City of Los Angeles' Department on Disability and National Emergency Numbering Association's Accessibility Committee—Richard Ray.

• Comcast Cable—Angel Arocho.

• Communication Service for the Deaf—Alfred Sonnenstrahl.

• CTIA, The Wireless Association—Matthew Gerst.

• Department of Homeland Security, Federal Emergency Management Agency—Marcie Roth.

• Fairfax County Emergency Management—Bruce McFarlane.

• Gallaudet University—Norman Williams.

• Hearing, Speech & Deafness Center—Donna Platt.

• Intrado, Inc.—John Snapp.

• Louisiana NENA—Roland Cotton.

• Microsoft—Bernard Aboba.

• Norcal Center for Deaf and Hard of Hearing and E911 Stakeholder Council—Sheri A. Farinha.

• Omnitor—Gunnar Hellstrom.

• Partners for Access, LLC—Joel Ziev.

• Purple Communications—Mark Stern.

• RealTime Text Task Force (R3TF)—Arnoud van Wijk.

• Research in Motion (RIM)—Gregory Fields.

• Speech Communication Assistance for the Telephone, Inc.—Rebecca Ladew.

• TeleCommunications Systems, Inc.—Don Mitchell.

• Telecommunications Industry Association and the Mobile Manufacturers Forum—David J. Dzumba.

• Time Warner Cable Communications—Martha (Marte) Kinder.

• T-Mobile, 911 Policy—Jim Nixon.

• Trace R&D Center, University of Wisconsin (IT&Tel-RERC)—Gregg Vanderheiden.

• U.S. Department of Justice, Civil Rights Division/DRS—Robert Mather.

• U.S. Department of Transportation, NHTSA—Laurie Flaherty.

• Verizon Communications—Kevin Green.

• Vonage Holding Corp.—Brendan Kasper.

• Washington Parish, LA Communications District—James Coleman.

Chairman Julius Genachowski has designated Richard Ray and David J. Dzumba as Co-Chairpersons of the EAAC.

To request materials in accessible formats for people with disabilities (braille, large print, electronic files, audio format), send an e-mail to fcc504@fcc.gov or call the Consumer and Governmental Affairs Bureau at 202-418-0530 (voice), 202-418-0432 (TTY).

Karen Peltz Strauss,
Deputy Chief, Consumer and Governmental Affairs Bureau, Federal Communications Commission.

[FR Doc. 2010-31513 Filed 12-14-10; 8:45 am]

BILLING CODE 6712-01-P